DEPARTMENT OF COMMERCE

International Trade Administration

[C-533-860, C-580-875, C-557-817, C-523-809, C-583-855, C-489-821, C-552-819]

Certain Steel Nails From India, the Republic of Korea, Malaysia, the Sultanate of Oman, Taiwan, the Republic of Turkey, and the Socialist Republic of Vietnam: Initiation of Countervailing Duty Investigations

AGENCY: Enforcement and Compliance, Formerly Import Administration, International Trade Administration, Department of Commerce.

DATES: Effective: June 25, 2014.

FOR FURTHER INFORMATION CONTACT: David Cordell at (202) 482-0408 (India); Yasmin Nair at (202) 482-3813 (Malaysia); Joseph Shuler at (202) 482-1293 (the Republic of Korea (Korea)); Joshua Morris at (202) 482-1779 (the Sultanate of Oman (Oman)); Sandra Dreisonstok at (202) 482-0768 (Taiwan); Ilissa Shefferman at (202) 482-4684 (Turkey); Thomas Schauer at (202) 482-0410 (the Socialist Republic of Vietnam (Vietnam)), AD/CVD Operations, Enforcement and Compliance, International Trade Administration, U.S. Department of Commerce, 14th Street and Constitution Avenue NW., Washington, DC 20230.

SUPPLEMENTARY INFORMATION:

The Petitions

On May 29, 2014, the Department of Commerce (the Department) received countervailing duty (CVD) petitions concerning imports of certain steel nails from India, Korea, Malaysia, Oman, Taiwan, Turkey and Vietnam filed in proper form on behalf of Mid Continent Steel & Wire (Petitioner). The CVD petitions were accompanied by seven antidumping duty (AD) petitions.¹ Petitioner is a domestic producer of certain steel nails. On June 3, 2014, the Department requested information and clarification for certain areas of the Petitions.² Petitioner filed responses to these requests on June 6, 2014.³

¹ See Petitions for the Imposition of Antidumping and Countervailing Duties on Certain Steel Nails from India, the Republic of Korea, Malaysia, the Sultanate Oman, Taiwan, the Republic of Turkey and the Socialist Republic of Vietnam, dated May 29, 2014 (Petitions).

² See letters from the Department to petitioner entitled “Petition for the Imposition of Countervailing Duties on Imports of Certain Steel Nails from {Country}: Supplemental Questions” on each of the country-specific records, dated June 3, 2014.

³ See “Certain Steel Nails from India, the Republic of Korea, Malaysia, the Sultanate of Oman, Taiwan, the Republic of Turkey, and the Socialist Republic of Vietnam: Petitioner's Response to the Department's June 3, 2014 Supplemental Questions on Volume I of the Petition,” dated June 6, 2014 and “Certain Steel Nails from {country}: Petitioner's Response to the Department's June 3, 2014 Supplemental Questions on Volume {country-specific volume} of the Petition,” dated June 6, 2014.

In accordance with section 702(b)(1) of the Tariff Act of 1930, as amended (the Act), Petitioner alleges that the Governments of India (GOI), Korea (GOK), Malaysia (GOM), Oman (GOO), Taiwan (GOTa), Turkey (GOTu), and Vietnam (GOV) are providing countervailable subsidies (within the meaning of sections 701 and 771(5) of the Act) to imports of certain steel nails from India, Korea, Malaysia, Oman, Taiwan, Turkey and Vietnam, and that such imports are materially injuring, or threaten to cause material injury to, the domestic industry producing certain steel nails in the United States pursuant to section 701 of the Act. Also, consistent with section 702(b)(1) of the Act, the Petitions are accompanied by information reasonably available to Petitioner supporting its allegations.

The Department finds that Petitioner filed the Petitions on behalf of the domestic industry because Petitioner is an interested party as defined in section 771(9)(C) of the Act, and that Petitioner demonstrated sufficient industry support with respect to the initiation of the investigations Petitioner is requesting.⁴

⁴ See “Determination of Industry Support for the Petitions” below.

Period of Investigations

The period of the investigations is January 1, 2013, through December 31, 2013.

Scope of Investigations

The product covered by these CVD investigations is certain steel nails from India, Korea, Malaysia, Oman, Taiwan, Turkey and Vietnam. For a full description of the scope of these investigations, see the “Scope of Investigations” in Appendix I of this notice.

Comments on Scope of Investigations

During our review of the Petitions, the Department issued questions to, and received responses from, Petitioner pertaining to the proposed scope to ensure that the scope language in the Petitions would be an accurate reflection of the products for which the domestic industry is seeking relief.

As discussed in the preamble to the Department's regulations,⁵ we are setting aside a period for interested parties to raise issues regarding product coverage (scope). The period for scope comments is intended to provide the Department with ample opportunity to consider all comments and to consult with parties prior to the issuance of the preliminary determination. If scope comments include factual information (see 19 CFR 351.102(b)(21)), all such factual information should be limited to public information. All such comments must be filed by 5:00 p.m. Eastern Daylight Time (EDT) on July 8, 2014, which is 20 calendar days from the signature date of this notice. Any rebuttal comments, which may include factual information, must be filed by 5:00 p.m. EDT on July 18, which is 10 calendar days after the initial comments. The Department requests that any factual information the parties consider relevant to the scope of the investigation be submitted during this time period. However, if a party subsequently finds that additional factual information pertaining to the scope of the investigation may be relevant, the party may contact the Department and request permission to submit the additional information. All comments must be filed on the records of the India, Korea, Malaysia, Oman, Taiwan, Turkey and Vietnam CVD investigations, as well as the concurrent India, Korea, Malaysia, Oman, Taiwan, Turkey and Vietnam AD investigations.

⁵ See Antidumping Duties; Countervailing Duties, 62 FR 27296, 27323 (May 19, 1997).

Filing Requirements

All submissions to the Department must be filed electronically using IA ACCESS.⁶ An electronically filed document must be received successfully in its entirety by the time and date when it is due. Documents excepted from the electronic submission requirements must be filed manually (i.e., in paper form) with Enforcement and Compliance's APO/Dockets Unit, Room 1870, U.S. Department of Commerce, 14th Street and Constitution Avenue NW., Washington, DC 20230, and stamped with the date and time of receipt by the applicable deadline.

⁶ See Antidumping and Countervailing Duty Proceedings: Electronic Filing Procedures; Administrative Protective Order Procedures, 76 FR 39263 (July 6, 2011) for details of the Department's electronic filing requirements, which went into effect on August 5, 2011. Information on help using IA ACCESS can be found at https://iaaccess.trade.gov/help.aspx and a handbook can be found at https://iaaccess.trade.gov/help/Handbook%20on%20Electronic%20Filling%20Procedures.pdf.

Consultations

Pursuant to section 702(b)(4)(A)(ii) of the Act, the Department invited representatives of GOI, GOK, GOM, GOO, GOTa, GOTu, and GOV for consultations with respect to the Petitions.⁷ Consultations were held with the GOM on June 10, 2014, the GOO on June 13, 2014, the GOTa on June 16, 2014, the GOTu on June 17, 2014, and the GOK on June 17, 2014.⁸ All memoranda are on file electronically via IA ACCESS.⁹

⁷ See letters of invitation regarding Countervailing Duty Petition on Certain Steel Nails from {Country}, dated May 30, 2014.

⁸ See “Ex-Parte Meeting with Officials from the Government of Malaysia on the Countervailing Duty Petition on Certain Steel Nails from Malaysia,” dated June 13, 2014; “Ex-Parte Meeting with Officials from the Government of Oman on the Countervailing Duty Petition on Certain Steel Nails from Oman,” dated June 17, 2014; Ex-Parte Memorandum, “Ex-Parte Meeting with Taipei Economic and Cultural Representative Office in the United States on the Countervailing Duty Petition on Certain Steel Nails from Taiwan,” dated June 16, 2014; “Ex-Parte Meeting with Officials from the Government of Turkey on the Countervailing Duty Petition on Certain Steel Nails from Turkey,” dated June 18, 2014, and “Ex-Parte Meeting with Officials from the Government of Korea on the Countervailing Duty Petition on Certain Steel Nails from Korea,” dated June 18, 2014.

⁹ See supra note 6 for information pertaining to IA ACCESS.

Determination of Industry Support for the Petitions

Section 702(b)(1) of the Act requires that a petition be filed on behalf of the domestic industry. Section 702(c)(4)(A) of the Act provides that a petition meets this requirement if the domestic producers or workers who support the petition account for: (i) At least 25 percent of the total production of the domestic like product; and (ii) more than 50 percent of the production of the domestic like product produced by that portion of the industry expressing support for, or opposition to, the petition. Moreover, section 702(c)(4)(D) of the Act provides that, if the petition does not establish support of domestic producers or workers accounting for more than 50 percent of the total production of the domestic like product, the Department shall: (i) Poll the industry or rely on other information in order to determine if there is support for the petition, as required by subparagraph (A); or (ii) determine industry support using a statistically valid sampling method to poll the industry.

Section 771(4)(A) of the Act defines the “industry” as the producers as a whole of a domestic like product, or those producers whose collective output of a domestic like product constitutes a major proportion of the total domestic production of the product. Thus, to determine whether a petition has the requisite industry support, the statute directs the Department to look to producers and workers who produce the domestic like product. The International Trade Commission (ITC), which is responsible for determining whether “the domestic industry” has been injured, must also determine what constitutes a domestic like product in order to define the industry. While both the Department and the ITC must apply the same statutory definition regarding the domestic like product (see section 771(10) of the Act), they do so for different purposes and pursuant to a separate and distinct authority. In addition, the Department's determination is subject to limitations of time and information. Although this may result in different definitions of the like product, such differences do not render the decision of either agency contrary to law.¹⁰

¹⁰ See USEC, Inc. v. United States, 132 F. Supp. 2d 1, 8 (CIT 2001) (citing Algoma Steel Corp., Ltd. v. United States, 688 F. Supp. 639, 644 (CIT 1988), aff'd 865 F.2d 240 (Fed. Cir. 1989)).

Section 771(10) of the Act defines the domestic like product as “a product which is like, or in the absence of like, most similar in characteristics and uses with, the article subject to an investigation under this title.” Thus, the reference point from which the domestic like product analysis begins is “the article subject to an investigation” (i.e., the class or kind of merchandise to be investigated, which normally will be the scope as defined in the petition).

With regard to the domestic like product, Petitioner does not offer a definition of the domestic like product distinct from the scope of the investigations. Based on our analysis of the information submitted on the record, we have determined that certain steel nails constitute a single domestic like product and we have analyzed industry support in terms of that domestic like product.¹¹

¹¹ For a discussion of the domestic like product analysis in this case, see Countervailing Duty Investigation Initiation Checklist: Certain Steel Nails from India (India CVD Initiation Checklist) at Attachment II, Analysis of Industry Support for the Antidumping and Countervailing Duty Petitions Covering Certain Steel Nails from India, the Republic of Korea, Malaysia, the Sultanate of Oman, Taiwan, the Republic of Turkey, and the Socialist Republic of Vietnam (Attachment II); Countervailing Duty Investigation Initiation Checklist: Certain Steel Nails from the Republic of Korea (Korea CVD Initiation Checklist), at Attachment II; Countervailing Duty Investigation Initiation Checklist: Certain Steel Nails from Malaysia (Malaysia CVD Initiation Checklist), at Attachment II; Countervailing Duty Investigation Initiation Checklist: Certain Steel Nails from the Sultanate of Oman (Oman CVD Initiation Checklist), at Attachment II; Countervailing Duty Investigation Initiation Checklist: Certain Steel Nails from Taiwan (Taiwan CVD Initiation Checklist), at Attachment II; Countervailing Duty Investigation Initiation Checklist: Certain Steel Nails from the Republic of Turkey (Turkey CVD Initiation Checklist), at Attachment II; and Countervailing Duty Investigation Initiation Checklist: Certain Steel Nails from the Socialist Republic of Vietnam (Vietnam CVD Initiation Checklist), at Attachment II. These checklists are dated concurrently with this notice and are on file electronically via IA ACCESS. Access to documents filed via IA ACCESS is also available in the Central Records Unit (CRU), Room 7046 of the main Department of Commerce building.

In determining whether Petitioner has standing under section 702(c)(4)(A) of the Act, we considered the industry support data contained in the Petitions with reference to the domestic like product as defined in the “Scope of the Investigations,” in Appendix I of this notice. To establish industry support, Petitioner provided its own production of the domestic like product in 2013, as well as the 2013 production of companies that support the Petitions.¹² Petitioner compared the total production of itself and supporters of the Petitions to the estimated total production of the domestic like product for the entire domestic industry.¹³ Petitioner estimated 2013 production of the domestic like product by non-petitioning companies based on its knowledge of the industry and the production capabilities and market shares of U.S. producers.¹⁴ We have relied upon data Petitioner provided for purposes of measuring industry support.¹⁵

¹² See Volume I of the Petitions, at 5 and Exhibit General-1

¹³ Id., at Exhibit General-1; see also General Issues Supplement, at 7 and Exhibit General Supp-4.

¹⁴ Id.

¹⁵ See India CVD Initiation Checklist, Korea CVD Initiation Checklist, Malaysia CVD Initiation Checklist, Oman CVD Initiation Checklist, Taiwan CVD Initiation Checklist, Turkey CVD Initiation Checklist, and Vietnam CVD Initiation Checklist, at Attachment II.

Based on information provided in the Petitions, supplemental submissions, and other information readily available to the Department, we determine that Petitioner has met the statutory criteria for industry support under section 702(c)(4)(A)(i) of the Act because the domestic producers (or workers) who support the Petitions account for at least 25 percent of the total production of the domestic like product.¹⁶ Based on information provided in the Petitions, the domestic producers (or workers) have met the statutory criteria for industry support under section 702(c)(4)(A)(ii) of the Act because the domestic producers (or workers) who support the Petitions account for more than 50 percent of the production of the domestic like product produced by that portion of the industry expressing support for, or opposition to, the Petitions. Accordingly, the Department determines that the Petitions were filed on behalf of the domestic industry within the meaning of section 702(b)(1) of the Act.¹⁷

¹⁶ Id.

¹⁷ Id.

The Department finds that Petitioner filed the Petitions on behalf of the domestic industry because it is an interested party as defined in section 771(9)(C) of the Act and it has demonstrated sufficient industry support with respect to the CVD investigations that it is requesting the Department initiate.¹⁸

¹⁸ Id.

Injury Test

Because India, Korea, Malaysia, Oman, Taiwan, Turkey, and Vietnam are “Subsidies Agreement Countries” within the meaning of section 701(b) of the Act, section 701(a)(2) of the Act applies to these investigations. Accordingly, the ITC must determine whether imports of the subject merchandise from India, Korea, Malaysia, Oman, Taiwan, Turkey, and Vietnam materially injure, or threaten material injury to, a U.S. industry.

Allegations and Evidence of Material Injury and Causation

Petitioner alleges that imports of the subject merchandise are benefitting from countervailable subsidies and that such imports are causing, or threaten to cause, material injury to the U.S. industry producing the domestic like product.¹⁹ With regard to Korea, Oman, Taiwan, and Vietnam, Petitioner alleges that subject imports exceed the negligibility threshold of three percent provided for under section 771(24)(A) of the Act.²⁰

¹⁹ See Volume I of the Petition at 3.

²⁰ See Volume I of the Petitions, at 29 and Exhibit Injury-5.

In CVD petitions, section 771(24)(A)-(B) of the Act provides that imports of subject merchandise from developing countries must exceed the negligibility threshold of four percent. Malaysia and India have been designated as developing countries.²¹ Therefore, imports from Malaysia and India must exceed the negligibility threshold of four percent. With regard to Malaysia, the allegedly subsidized imports exceed the negligibility threshold provided under section 771(24)(B) of the Act.²²

²¹ See section 771(36)(A)-(B) of the Act.

²² Id.

With regard to India and Turkey, while the allegedly subsidized imports from these two countries do not meet the statutory negligibility thresholds of four and three percent, respectively,²³ Petitioner alleges and provides supporting evidence that these imports will imminently exceed the negligibility thresholds and, therefore, are not negligible.²⁴ Petitioner's arguments are consistent with the statutory criteria for “negligibility in threat analysis” under section 771(24)(A)(iv) of the Act, which provides that imports shall not be treated as negligible if there is a potential that subject imports from a country will imminently exceed the statutory requirements for negligibility.

²³ See sections 771(24)(A)-(B) and 771(36)(B) of the Act.

²⁴ Id., at 29-32 and Exhibits Injury-2, Injury-5, Injury-6, and Injury-8 through Injury-13.

Petitioner contends that the industry's injured condition is illustrated by reduced market share; underselling and price suppression or depression; lost sales and revenues; underutilized capacity; shut downs and plant closures; reduced employment; and reduced profitability.²⁵ We have assessed the allegations and supporting evidence regarding material injury, threat of material injury, and causation, and we have determined that these allegations are properly supported by adequate evidence and meet the statutory requirements for initiation.²⁶

²⁵ See Volume I of the Petitions, at 32-58 and Exhibits General-6 and Injury-1 through Injury-26; see also General Issues Supplement, at 1 and Exhibit General Supp-1.

²⁶ See India CVD Initiation Checklist, Korea CVD Initiation Checklist, Malaysia CVD Initiation Checklist, Oman CVD Initiation Checklist, Taiwan CVD Initiation Checklist, Turkey CVD Initiation Checklist, and Vietnam CVD Initiation Checklist, at Attachment III, Analysis of Allegations and Evidence of Material Injury and Causation for the Antidumping and Countervailing Duty Petitions Covering Certain Steel Nails from India, the Republic of Korea, Malaysia, the Sultanate of Oman, Taiwan, the Republic of Turkey, and the Socialist Republic of Vietnam.

Initiation of Countervailing Duty Investigations

Section 702(b)(1) of the Act requires the Department to initiate a CVD investigation whenever an interested party files a CVD petition on behalf of an industry that: (1) Alleges the elements necessary for an imposition of a duty under section 701(a) of the Act; and (2) is accompanied by information reasonably available to the petitioner supporting the allegations. In the Petitions, Petitioner alleges that producers of certain steel nails in India, Korea, Malaysia, Oman, Taiwan, Turkey and Vietnam benefited from countervailable subsidies bestowed by their respective governments. The Department examined the Petitions and finds that they comply with the requirements of section 702(b)(1) of the Act. Therefore, in accordance with section 702(b)(1) of the Act, we are initiating CVD investigations to determine whether manufacturers, producers, or exporters of certain steel nails from India, Korea, Malaysia, Oman, Taiwan, Turkey and Vietnam receive countervailable subsidies from their respective governments.

India

Based on our review of the Petition, we find that there is sufficient information to initiate a CVD investigation of 28 alleged programs. For a full discussion of the basis for our decision to initiate or not initiate on each program, see India CVD Initiation Checklist.

Korea

Based on our review of the Petition, we find that there is sufficient information to initiate a CVD investigation of 18 alleged programs. For a full discussion of the basis for our decision to initiate or not initiate on each program, see Korea CVD Initiation Checklist.

Malaysia

Based on our review of the Petition, we find that there is sufficient information to initiate a CVD investigation of 8 alleged programs. For a full discussion of the basis for our decision to initiate or not initiate on each program, see Malaysia CVD Initiation Checklist.

Oman

Based on our review of the Petition, we find that there is sufficient information to initiate a CVD investigation of 10 alleged programs. For a full discussion of the basis for our decision to initiate or not initiate on each program, see Oman CVD Initiation Checklist.

Taiwan

Based on our review of the Petition, we find that there is sufficient information to initiate a CVD investigation of 9 alleged programs. For a full discussion of the basis for our decision to initiate or not initiate on each program, see Taiwan CVD Initiation Checklist.

Turkey

Based on our review of the Petition, we find that there is sufficient information to initiate a CVD investigation of 25 alleged programs. For a full discussion of the basis for our decision to initiate or not initiate on each program, see Turkey CVD Initiation Checklist.

Vietnam

Based on our review of the Petition, we find that there is sufficient information to initiate a CVD investigation of 26 alleged programs. For a full discussion of the basis for our decision to initiate or not initiate on each program, see Vietnam CVD Initiation Checklist.

A public version of the initiation checklist for each investigation is available on IA ACCESS and at http://trade.gov/enforcement/news.asp.

Respondent Selection

Petitioner named 22 companies as producers/exporters of certain steel nails from India, 40 from Korea, 44 from Malaysia, 7 from Oman, 135 from Taiwan, and 12 from Turkey.²⁷ Following standard practice in CVD investigations, the Department will, where appropriate, select respondents based on U.S. Customs and Border Protection (CBP) data for U.S. imports of certain steel nails during the period of investigation under the following Harmonized Tariff Schedule of the United States (HTSUS) numbers: 7317.00.5502; 7317.00.5503; 7317.00.5505; 7317.00.5507; 7317.00.5508; 7317.00.5511; 7317.00.5518; 7317.00.5519; 7317.00.5520; 7317.00.5530; 7317.00.5540; 7317.00.5550; 7317.00.5560; 7317.00.5570; 7317.00.5580; 7317.00.5590; 7317.00.6530; 7317.00.6560; and 7317.00.7500. We intend to release CBP data under Administrative Protective Order (APO) to all parties with access to information protected by APO shortly after the announcement of these case initiations. The Department invites comments regarding CBP data and respondent selection within five calendar days of publication of this Federal Register notice. Comments must be filed electronically using IA ACCESS. An electronically filed document must be received successfully in its entirety by the Department's electronic records system, IA ACCESS, by 5 p.m. Eastern time by the date noted above. We intend to make our decision regarding respondent selection within 20 days of publication of this Federal Register notice. Interested parties must submit applications for disclosure under APO in accordance with 19 CFR 351.305(b). Instructions for filing such applications may be found on the Department's Web site at http://enforcement.trade.gov/apo.

²⁷ See the Petition at Volume I, Exhibit General-5.

Distribution of Copies of the Petitions

In accordance with section 702(b)(4)(A)(i) of the Act and 19 CFR 351.202(f), copies of the public version of the Petitions have been provided to the representatives of the GOI, GOK, GOM, GOO, GOTa, GOTu, and GOV. To the extent practicable, we will attempt to provide a copy of the public version of the Petitions to each known exporter (as named in the Petitions), as provided in 19 CFR 351.203(c)(2).

ITC Notification

We have notified the ITC of our initiation, as required by section 702(d) of the Act.

Preliminary Determinations by the ITC

The ITC will preliminarily determine, within 45 days after the date on which the Petitions were filed, whether there is a reasonable indication that imports of certain steel nails from India, Korea, Malaysia, Oman, Taiwan, Turkey and Vietnam are materially injuring, or threatening material injury to, a U.S. industry.²⁸ A negative ITC determination for any country will result in the investigation being terminated with respect to that country; otherwise, these investigations will proceed according to statutory and regulatory time limits.

²⁸ See section 703(a) of the Act.

Submission of Factual Information

On April 10, 2013, the Department published Definition of Factual Information and Time Limits for Submission of Factual Information: Final Rule, 78 FR 21246 (April 10, 2013), which modified two regulations related to AD and CVD proceedings: the definition of factual information (19 CFR 351.102(b)(21)), and the time limits for the submission of factual information (19 CFR 351.301). The final rule identifies five categories of factual information in 19 CFR 351.102(b)(21), which are summarized as follows: (i) Evidence submitted in response to questionnaires; (ii) evidence submitted in support of allegations; (iii) publicly available information to value factors under 19 CFR 351.408(c) or to measure the adequacy of remuneration under 19 CFR 351.511(a)(2); (iv) evidence placed on the record by the Department; and (v) evidence other than factual information described in (i)-(iv). The final rule requires any party, when submitting factual information, to specify under which subsection of 19 CFR 351.102(b)(21) the information is being submitted and, if the information is submitted to rebut, clarify, or correct factual information already on the record, to provide an explanation identifying the information already on the record that the factual information seeks to rebut, clarify, or correct. The final rule also modified 19 CFR 351.301 so that, rather than providing general time limits, there are specific time limits based on the type of factual information being submitted. These modifications are effective for all proceeding segments initiated on or after May 10, 2013, and thus are applicable to these investigations. Please review the final rule, available at http://enforcement.trade.gov/frn/2013/1304frn/2013-08227.txt, prior to submitting factual information in these investigations.

Revised Extension of Time Limits Regulation

On September 20, 2013, the Department modified its regulation concerning the extension of time limits for submissions in AD and CVD proceedings.²⁹ The modification clarifies that parties may request an extension of time limits before a time limit established under Part 351 expires, or as otherwise specified by the Secretary. In general, an extension request will be considered untimely if it is filed after the time limit established under Part 351 expires. For submissions which are due from multiple parties simultaneously, an extension request will be considered untimely if it is filed after 10:00 a.m. on the due date. Examples include, but are not limited to: (1) Case and rebuttal briefs, filed pursuant to 19 CFR 351.309; (2) factual information to value factors under 19 CFR 351.408(c), or to measure the adequacy of remuneration under 19 CFR 351.511(a)(2), filed pursuant to 19 CFR 351.301(c)(3) and rebuttal, clarification and correction filed pursuant to 19 CFR 351.301(c)(3)(iv); (3) comments concerning the selection of a surrogate country and surrogate values and rebuttal; (4) comments concerning CBP data; and (5) quantity and value questionnaires. Under certain circumstances, the Department may elect to specify a different time limit by which extension requests will be considered untimely for submissions which are due from multiple parties simultaneously. In such a case, the Department will inform parties in the letter or memorandum setting forth the deadline (including a specified time) by which extension requests must be filed to be considered timely. This modification also requires that an extension request must be made in a separate, stand-alone submission, and clarifies the circumstances under which the Department will grant untimely-filed requests for the extension of time limits. These modifications are effective for all segments initiated on or after October 21, 2013 and, accordingly, apply to these investigations. Review Extension of Time Limits; Final Rule, available at http://www.gpo.gov/fdsys/pkg/FR-2013-09-20/html/2013-22853.htm, prior to submitting factual information in these investigations.

²⁹ See Extension of Time Limits; Final Rule, 78 FR 57790 (September 20, 2013).

Certification Requirements

Any party submitting factual information in an AD or CVD proceeding must certify to the accuracy and completeness of that information.³⁰ Parties are hereby reminded that the Department issued a final rule with respect to certification requirements, effective August 16, 2013.³¹ Parties are hereby reminded that revised certification requirements are in effect for company/government officials as well as their representatives. All segments of any AD or CVD proceedings initiated on or after August 16, 2013, including this investigation, should use the formats for the revised certifications provided at the end of the Final Rule.³² The Department intends to reject factual submissions if the submitting party does not comply with the applicable revised certification requirements.

³⁰ See section 782(b) of the Act.

³¹ See Certification of Factual Information To Import Administration During Antidumping and Countervailing Duty Proceedings, 78 FR 42678 (July 17, 2013) (Final Rule); see also the frequently asked questions regarding the Final Rule, available at the following: http://enforcement.trade.gov/tlei/notices/factual_info_final_rule_FAQ_07172013.pdf.

³² Id.

Notification to Interested Parties

Interested parties must submit applications for disclosure under APO in accordance with 19 CFR 351.305. On January 22, 2008, the Department published Antidumping and Countervailing Duty Proceedings: Documents Submission Procedures; APO Procedures, 73 FR 3634 (January 22, 2008). Parties wishing to participate in these investigations should ensure that they meet the requirements of these procedures (e.g., the filing of letters of appearance as discussed at 19 CFR 351.103(d)).

This notice is issued and published pursuant to sections 702 and 777(i) of the Act.

Dated: June 18, 2014.
Ronald K. Lorentzen,
Acting Assistant Secretary for Enforcement and Compliance.

Attachment I

Scope of the Investigations

The merchandise covered by these investigations is certain steel nails having a nominal shaft length not exceeding 12 inches.³³ Certain steel nails include, but are not limited to, nails made from round wire and nails that are cut from flat-rolled steel. Certain steel nails may be of one piece construction or constructed of two or more pieces. Certain steel nails may be produced from any type of steel, and may have any type of surface finish, head type, shank, point type and shaft diameter. Finishes include, but are not limited to, coating in vinyl, zinc (galvanized, including but not limited to electroplating or hot dipping one or more times), phosphate, cement, and paint. Certain steel nails may have one or more surface finishes. Head styles include, but are not limited to, flat, projection, cupped, oval, brad, headless, double, countersunk, and sinker. Shank styles include, but are not limited to, smooth, barbed, screw threaded, ring shank and fluted. Screw-threaded nails subject to this proceeding are driven using direct force and not by turning the nail using a tool that engages with the head. Point styles include, but are not limited to, diamond, needle, chisel and blunt or no point. Certain steel nails may be sold in bulk, or they may be collated in any manner using any material. If packaged in combination with one or more non-subject articles, certain steel nails remain subject merchandise if the total number of nails of all types, in aggregate regardless of size, is equal to or greater than 25.

³³ The shaft length of certain steel nails with flat heads or parallel shoulders under the head shall be measured from under the head or shoulder to the tip of the point. The shaft length of all other certain steel nails shall be measured overall.

Excluded from the scope of these investigations are certain steel nails packaged in combination with one or more non-subject articles, if the total number of nails of all types, in aggregate regardless of size, is less than 25.

Also excluded from the scope of these investigations are steel nails that meet the specifications of Type I, Style 20 nails as identified in Tables 29 through 33 of ASTM Standard F1667 (2013 revision).

Also excluded from the scope of these investigations are nails suitable for use in powder-actuated hand tools, whether or not threaded, which are currently classified under Harmonized Tariff Schedule of the United States (HTSUS) subheadings 7317.00.20.00 and 7317.00.30.00.

Also excluded from the scope of these investigations are nails having a case hardness greater than or equal to 50 on the Rockwell Hardness C scale (HRC), a carbon content greater than or equal to 0.5 percent, a round head, a secondary reduced-diameter raised head section, a centered shank, and a smooth symmetrical point, suitable for use in gas-actuated hand tools.

Also excluded from the scope of these investigations are corrugated nails. A corrugated nail is made up of a small strip of corrugated steel with sharp points on one side.

Also excluded from the scope of these investigations are thumb tacks, which are currently classified under HTSUS 7317.00.10.00.

Certain steel nails subject to these investigations are currently classified under HTSUS subheadings 7317.00.55.02, 7317.00.55.03, 7317.00.55.05, 7317.00.55.07, 7317.00.55.08, 7317.00.55.11, 7317.00.55.18, 7317.00.55.19, 7317.00.55.20, 7317.00.55.30, 7317.00.55.40, 7317.00.55.50, 7317.00.55.60, 7317.00.55.70, 7317.00.55.80, 7317.00.55.90, 7317.00.65.30, 7317.00.65.60 and 7317.00.75.00. Certain steel nails subject to these investigations also may be classified under HTSUS subheading 8206.00.00.00.

While the HTSUS subheadings are provided for convenience and customs purposes, the written description of the scope of these investigations is dispositive.

[FR Doc. 2014-14870 Filed 6-24-14; 8:45 am]

BILLING CODE 3510-DS-P